INTERNATIONAL TRADE COMMISSION

[USITC SE-19-038]

Sunshine Act Meetings

AGENCY HOLDING THE MEETING: United States International Trade Commission.

TIME AND DATE: November 8, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-630 and 731-TA-1462 (Preliminary) (Glass Containers from China). The Commission is currently scheduled to complete and file its determinations on November 12, 2019; views of the Commission are currently scheduled to be completed and filed on November 19, 2019.

5. Vote on Inv. Nos. 701-TA-623 and 731-TA-1449 (Final) (Vertical Metal File Cabinets from China). The Commission is currently scheduled to complete and file its determinations and views of the Commission by November 21, 2019.

6. Outstanding action jackets: None.

The Commission is holding the meeting under the Government in the Sunshine Act, 5 U.S.C. 552(b). In accordance with Commission policy, subject matter listed above, not disposed of at the scheduled meeting, may be carried over to the agenda of the following meeting.

By order of the Commission.
Issued: October 29, 2019.
William Bishop,
Supervisory Hearings and Information Officer.

[FR Doc. 2019-24007 Filed 10-30-19; 11:15 am]

BILLING CODE 7020-02-P